ENVIRONMENTAL PROTECTION AGENCY

40 CFR Part 52

[EPA-R09-OAR-2025-0292; FRL-12825-01-R9]

Determination of Attainment by the Attainment Date and Clean Data Determination; California, San Joaquin Valley 1997 Annual PM2.5 Fine Particulate Matter Nonattainment Area

AGENCY: Environmental Protection Agency (EPA).

ACTION: Proposed rule.

SUMMARY: The Environmental Protection Agency (EPA) is proposing to determine that the San Joaquin Valley, California fine particulate matter (PM2.5) nonattainment area attained the 1997 annual PM2.5 national ambient air quality standards (NAAQS) by the December 31, 2024 applicable attainment date. This proposed determination is based on ambient air quality monitoring data from 2022 through 2024. We are also proposing to make a clean data determination (CDD) based on the 2022 through 2024 data and our evaluation of preliminary air quality monitoring data from 2025. We are taking comments on this proposal and plan to follow with a final action.

DATES: Comments must be received on or before August 15, 2025.

ADDRESSES: Submit your comments, identified by Docket ID No. EPA-R09-OAR-2025-0292 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Ashley Graham, Geographic Strategies and Modeling Section (AIR-2-2), EPA Region IX, 75 Hawthorne Street, San Francisco, CA 94105; telephone number: (415) 972-3877; email address: graham.ashleyr@epa.gov.

SUPPLEMENTARY INFORMATION: Throughout this document, “we,” “us,” and “our” refer to the EPA.

Table of Contents

I. Background

A. PM2.5 NAAQS

B. The San Joaquin Valley PM2.5 Nonattainment Area

C. Clean Air Act Requirement for a Determination of Attainment

D. The EPA's Clean Data Policy

II. Determination of Attainment by the Attainment Date

A. Monitoring Network Review, Quality Assurance, and Data Completeness

B. The EPA's Evaluation of Attainment

III. Clean Data Determination

IV. The EPA's Proposed Action

V. Statutory and Executive Order Reviews

I. Background

A. PM2.5 NAAQS

The Clean Air Act (CAA) requires the EPA to establish primary and secondary NAAQS for certain pervasive pollutants that “may reasonably be anticipated to endanger public health and welfare.” ¹ The primary NAAQS is designed to protect public health with an adequate margin of safety, and the secondary NAAQS is designed to protect public welfare and the environment. The EPA has set standards for six common air pollutants, referred to as criteria pollutants. These standards represent the air quality levels an area must meet to comply with the CAA.

¹ CAA section 108(a).

PM2.5 can be particles emitted by sources directly into the atmosphere as a solid or liquid particle (“primary PM2.5” or “direct PM2.5”) or can be particles that form in the atmosphere as a result of various chemical reactions from PM2.5 precursor emissions emitted by sources (“secondary PM2.5”). The EPA established each of the PM2.5 NAAQS after considering substantial evidence from numerous health studies demonstrating that serious health effects are associated with exposures to PM2.5 concentrations above such levels. Epidemiological studies have shown statistically significant correlations between elevated PM2.5 levels and premature mortality. Other important health effects associated with PM2.5 exposure include aggravation of respiratory and cardiovascular disease (as indicated by increased hospital admissions, emergency room visits, absences from school or work, and restricted activity dates), changes in lung function and increased respiratory symptoms, and new evidence for more subtle indicators of cardiovascular health. Individuals particularly sensitive to PM2.5 exposure include older adults, people with heart and lung disease, and children.²

² EPA, Air Quality Criteria for Particulate Matter, No. EPA/600/P-99/002aF and EPA/600/P-99/002bF, October 2004.

On July 18, 1997, the EPA revised the NAAQS for particulate matter by establishing new NAAQS for particles with an aerodynamic diameter less than or equal to a nominal 2.5 micrometers (PM2.5).³ The EPA established primary and secondary annual and 24-hour standards for PM2.5.⁴ The EPA set the annual primary and secondary standards at 15.0 micrograms per cubic meter (μg/m³), based on a three-year average of annual mean PM2.5 concentrations.⁵ The EPA has since strengthened the primary annual PM2.5 NAAQS; ⁶ however, the 1997 primary annual PM2.5 NAAQS remains in effect in areas designated nonattainment for that NAAQS.⁷

³ 62 FR 38652.

⁴ For a given air pollutant, “primary” NAAQS are those determined by the EPA as requisite to protect the public health, allowing an adequate margin of safety, and “secondary” standards are those determined by the EPA as requisite to protect the public welfare from any known or anticipated adverse effects associated with the presence of such air pollutant in the ambient air. See CAA section 109(b).

⁵ 40 CFR 50.7.

⁶ 78 FR 3086 (January 15, 2013) and 89 FR 16202 (February 7, 2024).

⁷ 40 CFR 50.13(d).

B. The San Joaquin Valley PM2.5 Nonattainment Area

Following promulgation of a new or revised NAAQS, the EPA is required under CAA section 107(d) to designate areas throughout the nation as attainment, nonattainment, or unclassifiable for the NAAQS. Effective April 5, 2005, the EPA established the initial air quality designations for the 1997 annual PM2.5 NAAQS, using air quality monitoring data for the three-year periods of 2001-2003 and 2002-2004.⁸ The EPA designated the San Joaquin Valley as nonattainment for the 1997 annual PM2.5 NAAQS.⁹

⁸ 70 FR 944 (January 5, 2005).

⁹ 40 CFR 81.305.

The San Joaquin Valley PM2.5 nonattainment area encompasses over 23,000 square miles and includes all or part of eight counties: San Joaquin, Stanislaus, Merced, Madera, Fresno, Tulare, Kings, and the valley portion of Kern.¹⁰ The area is home to four million people and is one of the nation's leading agricultural regions. Stretching over 250 miles from north to south and averaging 80 miles wide, it is partially enclosed by the Coast Mountain range to the west, the Tehachapi Mountains to the south, and the Sierra Nevada range to the east.

¹⁰ For a precise description of the geographic boundaries of the San Joaquin Valley nonattainment area, see 40 CFR 81.305.

The California Air Resources Board (CARB) is the state agency responsible for the adoption and submission to the EPA of California state implementation plan (SIP) submissions. Under California law, air districts in California are generally responsible for the development of regional air quality plans. For the San Joaquin Valley area, the San Joaquin Valley Unified Air Pollution Control District (SJVUAPCD or “District”) develops and adopts air quality management plans to address CAA planning requirements applicable to the region. The District then submits such plans to CARB for adoption and submission to the EPA as proposed revisions to the California SIP.

The EPA approved most of the elements of the State's attainment plan for the San Joaquin Valley for the 1997 annual PM2.5 NAAQS on December 14, 2023, including the State's demonstration that the area would attain the NAAQS by December 31, 2023.¹¹ On May 23, 2024, the State of California transmitted a letter to the EPA requesting that the EPA grant a one-year extension under CAA section 172(a)(2)(C) of the applicable “Serious” area attainment date for the San Joaquin Valley from December 31, 2023, to December 31, 2024.¹² In its request, the State certified that it has complied with all requirements and commitments pertaining to the area in the approved implementation plan and that certified monitoring data for the San Joaquin Valley for 2023 were below the level of the 1997 annual PM2.5 NAAQS. On November 19, 2024, the EPA granted the State's request and extended the applicable attainment date to December 31, 2024.¹³

¹¹ 88 FR 86581. We approved the State's best available control measures (BACM) demonstration, attainment demonstration, reasonable further progress (RFP) demonstration, quantitiatve milestone demonstration, five percent reduction in emisisons per year demonstration, and motor vehicle emissions budgets as meeting the “Serious” area and CAA section 189(d) planning requirements. We also affirmed that the base year emissions inventories in the plan, which we had previously approved (86 FR 67329, November 26, 2021), provided an adequate basis for the BACM, RFP, five percent, and modeled attainment demonstration analyses. We deferred action on the requirement for contingency measures; however, we subsequently approved the area's contingency measures submittal on October 4, 2024 (89 FR 80749).

¹² Letter dated May 23, 2024, from Steven S. Cliff, Executive Officer, CARB, to Martha Guzman, Regional Administrator, EPA Region 9.

¹³ 89 FR 91263.

C. Clean Air Act Requirement for a Determination of Attainment

Sections 179(c) and 188(b)(2) of the CAA require that within six months following the applicable attainment date, the EPA shall determine whether a PM2.5 nonattainment area attained the standard based on the area's design value ¹⁴ as of that date.¹⁵ This determination, also referred to as a determination of attainment by the attainment date (DAAD), is based on certified data leading up to the attainment date, i.e., in this case, data for 2022-2024. Section 179(c)(2) of the CAA requires the EPA to publish the determination in the Federal Register.

¹⁴ A design value is the 3-year average NAAQS metric that is compared to the NAAQS level to determine when a monitoring site meets or does not meet the NAAQS. The specific methodologies for calculating whether the annual PM2.5 NAAQS is met at each eligible monitoring site in an area is found in 40 CFR part 50, appendix N, section 4.1.

¹⁵ A determination that an area has attained by the applicable attainment date does not constitute a redesignation to attainment.

D. The EPA's Clean Data Policy

Under the EPA's longstanding Clean Data Policy, which was reaffirmed in the PM2.5 Implementation Rule at 40 CFR 51.1015, when an area has attained the relevant PM2.5 standard(s), the EPA may issue a CDD (also sometimes referred to as a determination of attainment for the purposes of the Clean Data Policy) after notice and comment rulemaking determining that a specific area is attaining the relevant standard(s). A CDD is not linked to any particular attainment deadline and is not necessarily equivalent to a determination that an area has attained the standard by its applicable attainment deadline (i.e., a DAAD). The effect of a CDD is to suspend the requirement for the area to submit an attainment demonstration, a reasonably available control measures demonstration, a reasonable further progress (RFP) plan, contingency measures, and any other planning requirements related to attainment for as long as the area continues to attain the standard.¹⁶ A CDD does not suspend the requirements for an emissions inventory or for new source review.¹⁷

¹⁶ Because the EPA previously approved the State's attainment plan for the San Joaquin Valley for the 1997 annual PM2.5 NAAQS (see footnote 11 of this document), the State would not be required to submit any additional planning elements following a DAAD. However, in Little Manila Rising, et al. v. EPA, 9th Cir. Case No. 24-6990, the question regarding the extent of the EPA's authority to grant a one-year extension of the applicable attainment date from December 31, 2023, to December 31, 2024, for the San Joaquin Valley for the 1997 annual PM2.5 NAAQS is still pending before the court. In the event that the court finds that the EPA did not have the authority to grant the extension, the proposed CDD in this action would relieve the state of the requirement to adopt and submit a new plan for failing to attain by the applicable attainment date.

¹⁷ In the context of CDDs, the EPA distinguishes between attainment planning requirements of the CAA, which relate to the attainment demonstration for an area and related control measures designed to bring an area into attainment for the given NAAQS as expeditiously as practicable, and other types of requirements, such as permitting requirements under the nonattainment new source review program, the emissions inventory requirement, and specific control requirements independent of those strictly needed to ensure timely attainment of the given NAAQS. 81 FR 58010, 58128.

II. Determination of Attainment by the Attainment Date

A. Monitoring Network Review, Quality Assurance, and Data Completeness

A determination of whether an area is attaining the NAAQS is typically based upon complete, quality-assured data gathered at established State and Local Air Monitoring Stations (SLAMS) and entered into the EPA's Air Quality System (AQS) database. Data from ambient air monitors operated by state/local agencies in compliance with the EPA monitoring requirements must be submitted to AQS. Monitoring agencies annually certify that these data are accurate to the best of their knowledge. Accordingly, the EPA relies primarily on data in AQS when determining compliance with the NAAQS.¹⁸ The EPA reviews all data to determine the area's air quality status in accordance with 40 CFR part 50, appendix N. Under EPA regulations in 40 CFR 50.7 and in accordance with appendix N, the 1997 annual PM2.5 NAAQS are met when the annual arithmetic mean concentration, as determined in accordance with the rounding conventions in 40 CFR part 50, appendix N, is less than or equal to 15.0 µg/m³ at each eligible monitoring site within the area.

¹⁸ See 40 CFR 50.7; 40 CFR part 50, appendix L; 40 CFR part 53; 40 CFR part 58, and 40 CFR part 58, appendices A, C, D, and E.

For the annual PM2.5 standard, eligible monitoring sites are those monitoring stations that meet the criteria specified in 40 CFR 58.11 and 58.30 and thus are approved for comparison to the annual PM2.5 NAAQS.¹⁹ Three years of valid annual means are required to produce a valid annual PM2.5 NAAQS design value.²⁰ Data completeness requirements for a given year are met when at least 75 percent of the scheduled sampling days for each quarter have valid data.²¹ We note that monitors with incomplete data in one or more quarters may still produce valid design values if the conditions for applying the EPA's data substitution test are met.²² In determining whether data are suitable for regulatory determinations, the EPA uses a “weight of evidence” approach, considering the requirements of 40 CFR part 58, appendix A “in combination with other data quality information, reports, and similar documentation that demonstrate overall compliance with Part 58.” ²³

¹⁹ 40 CFR part 50, appendix N section 1.0(c).

²⁰ 40 CFR part 50, appendix N, section 4.1(b).

²¹ Id.

²² 40 CFR part 50, appendix N, section 4.1(b) and (c).

²³ 40 CFR part 58, appendix A, section 1.2.3.

Section 110(a)(2)(B)(i) of the CAA requires states to establish and operate air monitoring networks to compile data on ambient air quality for all criteria pollutants. The monitoring requirements are specified in 40 CFR part 58. These requirements are applicable to state and, where delegated, local air monitoring agencies that operate criteria pollutant monitors. The regulations in 40 CFR part 58 establish specific requirements for operating air quality surveillance networks to measure ambient concentrations of PM2.5, including requirements for measurement methods, network design, quality assurance procedures, and, in the case of large urban areas, the minimum number of monitoring sites designated as SLAMS.

In section 4.7 of appendix D to 40 CFR part 58, the EPA specifies minimum monitoring requirements for PM2.5 to operate at SLAMS. SLAMS produce data comparable to the NAAQS, and therefore, the monitor must be an approved federal reference method (FRM) or federal equivalent method (FEM). The minimum number of SLAMS required is described in section 4.7.1 and can be met by either filter-based or continuous FRMs or FEMs. The monitoring regulations also provide that each core-based statistical area must operate a minimum number of PM2.5 continuous monitors; ²⁴ however, this requirement can be met by either an FEM or a non-FEM continuous monitor, and the continuous monitors can be located with other SLAMS or at a different location. Consequently, the monitoring requirements for PM2.5 can be met with filter-based FRMs/FEMs, continuous FEMs, continuous non-FEMs, or a combination of monitors at each required SLAMS.

²⁴ 40 CFR part 58, appendix D, section 4.7.2.

Under 40 CFR 58.10, states are required to submit annual monitoring network plans to the EPA.²⁵ Within the San Joaquin Valley, CARB and the District are the agencies responsible for assuring that the area meets PM2.5 air quality monitoring requirements. CARB and SJVUAPCD submit monitoring network plans to the EPA annually. These plans describe and discuss the status of the air monitoring network, as required under 40 CFR 58.10. Each year, the EPA reviews these annual network plans for compliance with the applicable monitoring requirements in 40 CFR part 58. With respect to PM2.5, we have found that the CARB and SJVUAPCD annual network plans meet the applicable requirements under 40 CFR part 58.²⁶

²⁵ 40 CFR 58.10(a)(1).

²⁶ Letter dated October 29, 2024, from Dena Vallano, Manager, Monitoring and Analysis Section, EPA Region IX, to Sylvia Vanderspek, Manager, Air Quality Planning Branch, CARB; and letter dated October 29, 2024, from Dena Vallano, Manager, Monitoring and Analysis Section, EPA Region IX, to Jon Klassen, Director, Air Quality Science, SJVUAPCD.

During the 2022-2024 period, ambient PM2.5 concentration data that are eligible for use in determining whether an area has attained the PM2.5 NAAQS were collected at a total of 18 sites within the San Joaquin Valley. The District operates 12 of these sites while CARB operates 6 of these sites. All of the sites are designated SLAMS for PM2.5.²⁷ Based on our review of the PM2.5 monitoring network, we propose to find that the monitoring network in the San Joaquin Valley is adequate for the purpose of collecting ambient PM2.5 concentration data for use in determining whether the San Joaquin Valley has attained the 1997 annual PM2.5 NAAQS.

²⁷ There are a number of other PM2.5 monitoring sites within the valley, including other sites operated by the District, the National Park Service, and certain Indian Tribes, but the data collected from these sites are non-regulatory and not eligible for comparison with the PM2.5 NAAQS.

Under 40 CFR 58.15, monitoring agencies must submit a letter to the EPA each year to certify that all of the ambient concentration and quality assurance data for the previous year have been submitted to AQS and that the ambient concentration data are accurate to the best of their knowledge, taking into consideration the quality assurance findings. The letter must address data for all FRM and FEM monitors at SLAMS and special purpose monitoring stations that meet the criteria specified in 40 CFR part 58, appendix A. CARB annually certifies that the data the agency submits to AQS are quality assured, including the data collected at monitoring sites in the San Joaquin Valley.²⁸ SJVUAPCD does the same for data submitted to AQS from monitoring sites operated by the District.²⁹

²⁸ For example, see letter dated April 18, 2025, from Jin Xu, Acting Chief, Air Quality Planning Branch, CARB, to Dena Vallano, Manager, Monitoring and Analysis Section, EPA Region 9, with enclosures, certifying calendar year 2024 ambient air quality data and quality assurance data.

²⁹ For example, see letter dated March 20, 2025, from Robert Gilles, Program Manager, SJVUAPCD, to Matt Lakin, Director, Air and Radiation Division, EPA Region IX, with attachments, certifying calendar year 2024 ambient air quality data and quality assurance data.

With respect to data completeness, we determined that the data collected by the CARB and the District met the quarterly completeness criterion for all 12 quarters of the three-year period at most of the PM2.5 monitoring sites in the San Joaquin Valley. More specifically, among the 18 PM2.5 monitoring sites from which regulatory data are available, the data from Merced-Vierra (AQS ID: 06-047-2024), Stockton-University (AQS ID: 06-077-1003), and Manteca (AQS ID: 06-077-2010) did not meet the 75 percent completeness criterion for one quarter; ³⁰ however, the data from the sites are sufficient nonetheless to produce valid design values for the 1997 annual PM2.5 NAAQS pursuant to the rules governing design value validity in 40 CFR part 50, appendix N, section 4.1.

³⁰ EPA, AQS Combined Site Sample Values (AMP355), Report Request ID: 2290307, May 7, 2025.

Finally, the EPA conducts regular technical systems audits (TSAs) where we review and inspect state and local ambient air monitoring programs to assess compliance with applicable regulations concerning the collection, analysis, validation, and reporting of ambient air quality data. For the purposes of this proposal, we reviewed the findings from the EPA's most recent TSAs of CARB's and the District's ambient air monitoring programs.³¹ The results of the TSAs do not preclude the EPA from determining that the San Joaquin Valley PM2.5 nonattainment area has attained the 1997 annual PM2.5 NAAQS.

³¹ Letter dated March 14, 2024, from Matthew Lakin, Director, Air and Radiation Division, EPA Region IX, to Edie Chang, Executive Officer, CARB, with enclosure titled “Technical Systems Audit of the Ambient Air Monitoring Program: California Air Resources Board December 2021-August 2022.”

In summary, based on the EPA's reviews of the relevant annual network plans, certifications, quality assurance data, and TSAs, we propose to find that the PM2.5 data collected at San Joaquin Valley monitoring sites are suitable for determining whether the San Joaquin Valley PM2.5 nonattainment area has attained the 1997 annual PM2.5 NAAQS.

B. The EPA's Evaluation of Attainment

Table 1 of this document provides the PM2.5 design values at each of the 18 monitoring sites within the San Joaquin Valley PM2.5 nonattainment area, expressed as a single design value representing the 2022-2024 period and for each individual year. The PM2.5 data show that the design values at the San Joaquin Valley monitoring sites were below the level of the 1997 annual PM2.5 NAAQS of 15.0 μg/m³. Consequently, the EPA is proposing to determine based upon three years of quality-assured and certified data from 2022 through 2024 that the San Joaquin Valley PM2.5 nonattainment area attained the 1997 annual PM2.5 NAAQS by the applicable December 31, 2024 attainment date.

Table 1—2022-2024 Annual PM2.5 Design Values for the San Joaquin Valley PM2.5 Nonattainment Area
County | Site name (AQS ID) | Annual mean (μg/m³): 2022 | Annual mean (μg/m³): 2023 | Annual mean (μg/m³): 2024 | 2022-2024 Annual design value (μg/m³)
Fresno | Fresno-Garland (06-019-0011) | 12.9 | 10.5 | 10.3 | 11.2
Fresno | Tranquillity (06-019-2009) | 6.7 | 4.8 | 7.0 | 6.2
Fresno | Fresno-Founry (06-019-2016) | 14.8 | 12.5 | 13.6 | 13.6
Fresno | Clovis-Villa (06-019-5001) | 10.5 | 8.6 | 10.6 | 9.9
Fresno | Fresno-Pacific (06-019-5025) | 13.5 | 12.6 | 12.7 | 12.9
Kern | Bakersfield-Golden/M-St (06-029-0010) | 16.7 | 13.7 | 12.9 | 14.4
Kern | Bakersfield-California (06-029-0014) | 15.8 | 12.0 | 12.7 | 13.5
Kern | Bakersfield-Airport (Planz) (06-029-0016) | 16.1 | 12.5 | 15.6 | 14.7
Kings | Corcoran-Patterson (06-031-0004) | 14.7 | 10.1 | 10.1 | 11.6
Kings | Hanford-Irwin (06-031-1004) | 14.2 | 12.5 | 11.8 | 12.8
Madera | Madera-City (06-039-2010) | 10.4 | 9.9 | 9.0 | 9.8
Merced | Merced-Vierra (06-047-2024) | 9.8 | 8.4 | 7.2 (Inc) | 8.4
Merced | Merced-M St (06-047-2510) | 10.5 | 9.6 | 7.8 | 9.3
San Joaquin | Stockton-University Park (06-077-1003) | 10.2 | 10.8 (Inc) | 10.1 | 10.4
San Joaquin | Manteca (06-077-2010) | 9.0 (Inc) | 7.9 | 8.1 | 8.3
Stanislaus | Modesto-14th Street (06-099-0005) | 13.4 | 10.5 | 9.0 | 11.0
Stanislaus | Turlock (06-099-0006) | 10.8 | 10.1 | 9.3 | 10.1
Tulare | Visalia-W Ashland Avenue (06-107-2003) | 15.0 | 11.7 | 13.0 | 13.2
Source: EPA, AQS Design Value Report (AMP480), Report Request ID: 2290291, May 7, 2025.
Notes: Inc = Incomplete Data.

III. Clean Data Determination

As described in section I.D. of this document, when an area has attained the relevant PM2.5 standard(s), the EPA may issue a CDD after notice and comment rulemaking determining that a specific area is attaining the relevant standard.³² Based on quality-assured and certified data for 2022-2024, the San Joaquin Valley PM2.5 nonattainment area meets the 1997 annual PM2.5 NAAQS. Furthermore, preliminary data available in AQS for 2025 (January through March) indicate that the area continues to show concentrations consistent with attainment of the 1997 annual PM2.5 NAAQS.³³ Consequently, the EPA is proposing to issue a CDD.

³² 40 CFR 51.1015.

³³ EPA, AQS Combined Site Sample Values (AMP355), Report Request ID: 2296369, June 2, 2025; AQS Combined Site Sample Values (AMP355), Report Request ID: 2296793, June 4, 2025.

If we finalize this proposed CDD, the obligation to submit attainment planning provisions to meet the requirements for an attainment plan for the 1997 annual PM2.5 NAAQS, including an RFP plan, quantitative milestones and quantitative milestone reports, contingency measures, and an attainment demonstration, are suspended until such time as: (1) the area is redesignated to attainment, after which such requirements are permanently discharged; or (2) the EPA determines that the area has re-violated the PM2.5 NAAQS, at which time the state shall submit such attainment plan elements for the nonattainment area by a future date to be determined by the EPA and announced through publication in the Federal Register at the time the EPA determines the area is violating the PM2.5 NAAQS.

A CDD does not suspend the requirements for an emissions inventory or new source review (NSR). The EPA previously approved the base year emissions inventory element of the attainment plan for the 1997 annual PM2.5 NAAQS as meeting the requirements of CAA section 172(c)(3) and 40 CFR 50.1008.³⁴ On January 21, 2025, the EPA proposed a limited approval and limited disapproval of nonattainment NSR SIP revisions submitted by California for the San Joaquin Valley.³⁵ We are not taking any further action on the submissions at this time.

³⁴ 86 FR 67329, 67341 (November 26, 2021).

³⁵ 90 FR 6928.

IV. The EPA's Proposed Action

For the reasons discussed in this document, the EPA is proposing to determine, based on the most recent three years (2022-2024) of complete (or otherwise validated), quality-assured, and certified data meeting the requirements of 40 CFR part 50, appendix N, that the San Joaquin Valley PM2.5 nonattainment area attained the 1997 annual PM2.5 NAAQS by its December 31, 2024 attainment date. This action, when finalized, will fulfill the EPA's statutory obligation to determine whether the San Joaquin Valley PM2.5 nonattainment area attained the NAAQS by the attainment date.

In accordance with 40 CFR 51.1015, we are also proposing to issue a CDD for the San Joaquin Valley PM2.5 nonattainment area for the 1997 annual PM2.5 NAAQS. Accordingly, the EPA is proposing to determine that the obligation to submit any attainment-related SIP revisions is not applicable for so long as the area continues to attain those NAAQS. This CDD does not constitute a redesignation to attainment. The San Joaquin Valley PM2.5 nonattainment area will remain designated nonattainment for the 1997 annual PM2.5 NAAQS until such time as the EPA determines, pursuant to sections 107 and 175A of the CAA, that the San Joaquin Valley PM2.5 nonattainment area meets the CAA requirements for redesignation to attainment, including an approved maintenance plan showing that the area will continue to meet the standard for 10 years.

The EPA is soliciting public comments on the issues discussed in this document. We will accept comments from the public on this proposal for the next 30 days. We will consider these comments before taking final action.

V. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 14192: Unleashing Prosperity Through Deregulation

This action is not expected to be an Executive Order 14192 regulatory action because this action is not significant under Executive Order 12866.

C. Paperwork Reduction Act (PRA)

This action does not impose an information collection burden under the PRA because this proposed action does not impose additional requirements beyond those imposed by state law.

D. Regulatory Flexibility Act (RFA)

I certify that this action will not have a significant economic impact on a substantial number of small entities under the RFA. This action will not impose any requirements on small entities beyond those imposed by state law.

E. Unfunded Mandates Reform Act (UMRA)

This action does not contain any unfunded mandate as described in UMRA, 2 U.S.C. 1531-1538, and does not significantly or uniquely affect small governments. This action does not impose additional requirements beyond those imposed by state law. Accordingly, no additional costs to state, local, or Tribal governments, or to the private sector, will result from this action.

F. Executive Order 13132: Federalism

This action does not have federalism implications. It will not have substantial direct effects on the states, on the relationship between the national government and the states, or on the distribution of power and responsibilities among the various levels of government.

G. Executive Order 13175: Coordination With Indian Tribal Governments

This action does not have Tribal implications, as specified in Executive Order 13175, because the SIP is not approved to apply on any Indian reservation land or in any other area where the EPA or an Indian Tribe has demonstrated that a Tribe has jurisdiction, and it will not impose substantial direct costs on Tribal governments or preempt Tribal law. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. Therefore, this action is not subject to Executive Order 13045 because it merely proposes a DAAD and a CDD. Furthermore, the EPA's Policy on Children's Health does not apply to this action.

I. Executive Order 13211: Actions That Significantly Affect Energy Supply, Distribution, or Use

This action is not subject to Executive Order 13211, because it is not a significant regulatory action under Executive Order 12866.

J. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

List of Subjects in 40 CFR Part 52

Environmental protection, Air pollution control, Ammonia, Incorporation by reference, Intergovernmental relations, Nitrogen oxides, Particulate matter, Reporting and recordkeeping requirements, Sulfur oxides, Volatile organic compounds.

Dated: July 7, 2025.
Joshua F.W. Cook,
Regional Administrator, Region IX.

[FR Doc. 2025-13339 Filed 7-15-25; 8:45 am]

BILLING CODE 6560-50-P